FEDERAL COMMUNICATIONS COMMISSION

Privacy Act; System of Records

AGENCY: Federal Communications Commission (FCC or Commission).

ACTION: Notice; correction.

SUMMARY: The Federal Communications Commission published a document in the Federal Register of January 15, 2003, concerning a Privacy Act System of Records Notice; altered Privacy Act system of records; revision of one routine use; addition of one new routine use; and cancellation of one system of records. The document contained an incorrect System Manager(s) and Address.

FOR FURTHER INFORMATION CONTACT: Les Smith, Federal Communications Commission, at (202) 418-0217 or via the Internet at lesmith@fcc.gov.

SUPPLEMENTARY INFORMATION: In the Federal Register issue of January 15, 2003 in FR Doc. 03-884, a notice was published which provided an incorrect System Manager(s) and Address. This correction changes that System Manager(s) and Address.

Correction

On page 2052, in the second column, lines 19-24, should be corrected to read:

SYSTEM MANAGER(S) AND ADDRESS:

Security Office, Associate Managing Director—Administrative Operations (AMD-AO), Security Operations Center, Federal Communications Commission (FCC), 445 12th Street, S.W., Room 1-B458, Washington, DC 20554.

Dated: January 16, 2003.
Federal Communications Commission.
Marlene H. Dortch,
Secretary.

[FR Doc. 03-2023 Filed 1-28-03; 8:45 am]

BILLING CODE 6712-01-P